SMALL BUSINESS ADMINISTRATION

[Declaration of Disaster #3607]

Commonwealth of Pennsylvania; Amendment #2

In accordance with notices received from the Department of Homeland Security—Federal Emergency Management Agency—effective October 8 and November 8, 2004, the above numbered declaration is hereby amended to reestablish the incident period for this disaster as beginning on July 27, 2004, and continuing through August 25, 2004. The declaration is also amended to extend the deadline for filing applications for physical damages as a result of this disaster to December 8, 2004.

All other information remains the same, i.e., the deadline for filing applications for economic injury is May 6, 2005.

(Catalog of Federal Domestic Assistance Program Nos. 59002 and 59008)
Dated: November 10, 2004.
Herbert L. Mitchell,
Associate Administrator for Disaster Assistance.

[FR Doc. 04-25462 Filed 11-16-04; 8:45 am]

BILLING CODE 8025-01-P